DEPARTMENT OF JUSTICE

Notice of Lodging of Proposed Consent Decree Under the Comprehensive Environmental Response, Compensation, and Liability Act

On December 14, 2012, the United States Department of Justice lodged a proposed First Amended Consent Decree (“Decree”) with the United States District Court for the District of New Jersey in the lawsuit entitled United States v. Johnson & Johnson, et al., Civil Action No. 06-6077 (FSH). The proposed Decree provides for the performance of a remedial action, pursuant to the Comprehensive Environmental Response, Compensation and Liability Act, 42 U.S.C. 9601, et seq., for soils and groundwater contamination (“Operable Unit Two”) selected by the United States Environmental Protection Agency for the Horseshoe Road Drum Disposal (“HRDD”) portion of the Horseshoe Road Superfund Site and the adjacent Atlantic Resources Corporation (“ARC”) Superfund Site in Sayreville, New Jersey. The proposed Decree would supersede an existing consent decree in this action which provides for ARC Operable Two remedial action but does not provide for HRDD Operable Unit Two remedial action.

The Operable Unit Two remedial action for the ARC and HRDD sites will be performed by a group of Settling Work Defendants, consisting of Johnson & Johnson, Permacel, Inc., 3M Company, Lionetti Oil Recovery, Inc., and Fry's Metals, Inc. The United States on behalf of the Department of Defense and a group of De Minimis Settling Defendants, consisting of Novartis Corporation, Essex Chemical Corporation, Chevron Environmental Management Company, Union Carbide Corporation, Advanced Environmental Technology Corporation, AT&T Corp., The City of Philadelphia, Honeywell International Inc., ICI Americas Inc., International Paper Company, ITT Corporation, JPMorgan Chase Bank, N.A., North Jersey Media Group, Philips Electronics North America Corporation, Robert Wood Johnson University Hospital Rahway, Saint Peter's University Hospital, Inc., and Sun Chemical Corporation, will contribute to the costs of the performance of the work. The proposed Decree also provides for reimbursement of EPA's HRDD past costs in the amount of $1,979,206.75. The proposed Decree includes the United States' covenants not to sue or take administrative action against the settling defendants with respect to the HRDD Operable Unit Two remedial action, HRDD past costs, and an Operable Unit Three relating to the marsh and Raritan River adjacent to the ARC and Horseshoe Road sites.

The publication of this notice opens a period for public comment on the First Amended Consent Decree. Comments should be addressed to the Assistant Attorney General, Environment and Natural Resources Division, and should refer to United States v. Johnson & Johnson, et al., D.J. Ref. No. 90-11-3-480/4. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department Web site: http://www.usdoj.gov/enrd/Consent_Decrees.html. We will provide a paper copy of the consent decree upon written request and payment of reproduction costs. Please mail your request and payment to: Consent Decree Library, U.S. DOJ—ENRD, P.O. Box 7611, Washington, DC 20044-7611.

Please enclose a check or money order for $57.75 (25 cents per page reproduction cost) payable to the United States Treasury. For a paper copy without the exhibits and signature pages, the cost is $27.00.

Ronald G. Gluck,
Assistant Section Chief, Environmental Enforcement Section, Environment and Natural Resources Division.

[FR Doc. 2012-30733 Filed 12-20-12; 8:45 am]

BILLING CODE 4410-15-P